DEPARTMENT OF DEFENSE

Defense Acquisition Regulations System

48 CFR Part 3415

Contracting by Negotiation

CFR Correction

In Title 48 of the Code of Federal Regulations, Chapter 29 to End, revised as of October 1, 2011, on page 150, in section 3415.605, paragraph (d) is correctly revised, and section 3415.606 is added to read as follows:

3415.605 Content of unsolicited proposals.

* * * * *

d. No prior commitments were received from Departmental employees regarding acceptance of this proposal.

Date:

Organization:

Name:

Title:

(This certification must be signed by a responsible person authorized to enter into contracts on behalf of the organization.)

3415.606 Agency procedures.

(b)(1) The HCA or designee is the contact point to coordinate the receipt, control, and handling of unsolicited proposals.

(2) Offerors must direct unsolicited proposals to the HCA.

[FR Doc. 2012-23944 Filed 9-26-12; 8:45 am]

BILLING CODE 1505-01-D